FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of the agreements are available through the Commission's website (www.fmc.gov) or by contacting the Office of Agreements at (202) 523-5793 or tradeanalysis@fmc.gov.

Agreement No.: 201157-011.

Agreement Name: USMX-ILA Master Contract Memorandum of Settlement.

Parties: International Longshoremen's Association, AFL-CIO and United States Maritime Alliance, Ltd.

Filing Party: Jim Campbell, The Lambos Firm LLP.

Synopsis: The Amendment consists of the 2024-2030 USMX-ILA Master Contract Memorandum of Settlement, which was executed on March 11, 2025.

Location: https://www2.fmc.gov/FMC.Agreements.Web/Public/AgreementHistory/8153.

Agreement No.: 201425-001.

Agreement Name: HMM/SML Slot Exchange Agreement.

Parties: HMM Co. Ltd; SM Line Corporation.

Filing Party: Joshua Stein, Cozen O'Connor.

Synopsis: The Amendment updates the name of the service on which space is provided by HMM and revises the Agreement to extend the term of the Agreement through April 30, 2026 with automatic renewal thereafter.

Proposed Effective Date: 04/28/2025.

Location: https://www2.fmc.gov/FMC.Agreements.Web/Public/AgreementHistory/86560.

Dated: March 21, 2025.
Alanna Beck,
Federal Register Alternate Liaison Officer.

[FR Doc. 2025-05125 Filed 3-25-25; 8:45 am]

BILLING CODE 6730-02-P